DEPARTMENT OF COMMERCE

International Trade Administration

[A-570-836]

Glycine from the People's Republic of China: Extension of Time Limit for the Final Results of the 2005-2006 Administrative Review

AGENCY: Import Administration, International Trade Administration, Department of Commerce.

EFFECTIVE DATE: July 27, 2007.

FOR FURTHER INFORMATION CONTACT: Matthew Renkey, AD/CVD Operations, Office 9, Import Administration, International Trade Administration, U.S. Department of Commerce, 14th Street and Constitution Avenue, NW, Washington DC 20230; telephone: (202) 482-2312.

SUPPLEMENTARY INFORMATION:

Background

On April 12, 2007, the Department of Commerce (“Department”) published the preliminary results of the administrative review of glycine from the People's Republic of China (“PRC”), covering the period March 1, 2005, through February 28, 2006. See Glycine from the People's Republic of China: Preliminary Results of Antidumping Duty Administrative Review and Preliminary Rescission, in Part, 72 FR 18457 (April 12, 2007). On April 27, 2007, the Department extended the deadline for submitting factual information for the Department to consider in selecting the surrogate values (“SVs”) for the final results of this review, from May 2, 2007, to June 1, 2007. The Department also extended the briefing schedule to accommodate the SV comment extension. On June 14, 2007, the Department issued a letter in response to interested parties' comments regarding certain SV information that had been placed on the record. Also on June 14, 2007, the Department issued a supplemental questionnaire to the respondent, Nantong Dongchang Chemical Industry Corp. (“NDCI”), seeking clarification regarding the ammonia input it uses in the glycine production process. In addition, the Department noted that the domestic interested party participating in this review, Geo Specialty Chemicals, Inc. (“Geo”), would have an opportunity to comment on and rebut any information submitted by NDCI in its response to the June 14, 2007, supplemental questionnaire. The Department again extended the briefing schedule, making case briefs due by July 16, 2007, and rebuttal briefs due by July 23, 2007. The final results of this review are currently due by August 10, 2007.

Extension of Time Limit of Final Results

Pursuant to section 751(a)(3)(A) of the Tariff Act of 1930, as amended (“the Act”), and 19 CFR 351.213(h)(2), if the Department determines that it is not practicable to complete the review within the designated time period, the Department may extend the time limit for issuing the final results in a review from 120 days to 180 days after publication of the preliminary results.

The Department determines that it would not be practicable to complete the final results of this administrative review within the current time period. Given the extended briefing schedule and the new SV information submitted by parties, the Department requires additional time to analyze the parties' information and arguments, which encompass several issues the Department considers to be extraordinarily complicated, including, but not limited to, the valuation of the ammonia input. Therefore, in accordance with section 751(a)(3)(A) of the Act, the Department is extending the time period for issuing the final results of this review by 60 days, until October 9, 2007.

This notice is published in accordance with sections 751(a)(3)(A) and 777(i) of the Act.

Dated: July 17, 2007.
Stephen J. Claeys,
Deputy Assistant Secretary for Import Administration.

[FR Doc. E7-14598 Filed 7-26-07; 8:45 am]

BILLING CODE 3510-DS-S